FEDERAL MINE SAFETY AND HEALTH REVIEW COMMISSION

Sunshine Act Notice

February 5, 2013.

TIME AND DATE: 2:00 p.m., Thursday, February 21, 2013

PLACE: The Richard V. Backley Hearing Room, Room 511N, 1331 Pennsylvania Avenue NW., Washington, DC 20004 (entry from F Street entrance)

STATUS: Open

MATTERS TO BE CONSIDERED: The Commission will consider and act upon the following in open session: Secretary of Labor v. Big Ridge, Inc., Docket Nos. LAKE 2009-377, et al. (Issues include whether the Administrative Law Judge erred in determining that certain orders were “significant and substantial” and due to the operator's “unwarrantable failure to comply.”)

Any person attending this meeting who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2013-02973 Filed 2-6-13; 11:15 am]

BILLING CODE 6735-01-P